DEPARTMENT OF COMMERCE

Census Bureau

Applicant Background Questionnaire

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before July 2, 2001.

ADDRESSES: Direct all written comments to Madeleine Clayton, Departmental Paperwork Clearance Officer, Department of Commerce, Room 6086, 14th and Constitution Avenue, NW, Washington, DC 20230 (or via the Internet at mclayton@doc.gov).

FOR FURTHER INFORMATION CONTACT: Requests for additional information or copies of the information collection instrument(s) and instructions should be directed to Geraldine Burt, U.S. Census Bureau, Field Division, FOB-3, Room 1784, Washington, DC 20233-5700, 301-457-1939.

SUPPLEMENTARY INFORMATION:

I. Abstract

The Applicant Background Questionnaire is completed on a voluntary basis by applicants for Regional Office Schedule A positions with the Census Bureau at the time of application and testing. The Census Bureau conducts a wide variety of statistical surveys and hires interviewers and other Schedule A employees to work on these surveys on an ongoing basis. The questions on the Applicant Background Questionnaire are of a sensitive nature relating to race and national origin as well as medical disabilities. This information is useful in determining whether we have a representative sample of the community from which we are hiring. This allows the Census Bureau to adjust recruiting efforts quickly and to employ local applicants for indigenous hiring. It also allows us to assess our compliance with equal employment opportunity regulations. Background information provided by applicants will not be used in applicant screening or selection and will not be available to the selecting official.

II. Method of Collection

Individuals complete the BC-1431 only once. Based on past experience, the BC-1431 on average takes about 2.5 minutes to complete. The paper form is completed by the applicant at the time of testing.

III. Data

OMB Number: 0607-0494.

Form Number: BC-1431.

Type of Review: Regular Submission.

Affected Public: Census Bureau Job Applicants.

Estimated Number of Respondents: 25,000.

Estimated Time Per Response: 2.5 minutes.

Estimated Total Annual Burden Hours: 1,042.

Estimated Total Annual Cost: There is no cost to respondents except for their time.

Respondent's Obligation: Voluntary.

Legal Authority: Pub. L. 92-261, Equal Employment Opportunity Act of 1972 Pub. L. 94-311, Publication of Economic and Social Statistics for Americans of Spanish Origin or Descent 41 CFR part 60-3, Information on Impact (Section 4) 5 U.S.C. 7201, Antidiscrimination Policy, Minority Recruitment Program.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 26, 2001.
Madeleine Clayton,
Departmental Paperwork Clearance Officer, Office of the Chief Information Officer.

[FR Doc. 01-10773 Filed 4-30-01; 8:45 am]

BILLING CODE 3510-07-P